DEPARTMENT OF JUSTICE

[OMB Number 1122-0016]

Agency Information Collection Activities; Proposed eCollection eComments Requested; Extension of a Previously Approved Collection; Semi-Annual Progress Report for Grantees of the Transitional Housing Assistance Grant Program)

AGENCY: Office on Violence Against Women, Department of Justice.

ACTION: 60-Day notice.

SUMMARY: The Office on Violence Against Women, Department of Justice (DOJ), will be submitting the following information collection request to the Office of Management and Budget (OMB) for review and approval in accordance with the Paperwork Reduction Act of 1995.

DATES: Comments are encouraged and will be accepted for 60 days until August 27, 2024.

FOR FURTHER INFORMATION CONTACT: If you have additional comments especially on the estimated public burden or associated response time, suggestions, or need a copy of the proposed information collection instrument with instructions or additional information, please contact Catherine Poston, Office on Violence Against Women, at 202-514-5430 or Catherine.poston@usdoj.gov.

SUPPLEMENTARY INFORMATION: Written comments and suggestions from the public and affected agencies concerning the proposed collection of information are encouraged. Your comments should address one or more of the following four points:

—Evaluate whether the proposed collection of information is necessary for the proper performance of the functions of the Bureau of Justice Statistics, including whether the information will have practical utility;

—Evaluate the accuracy of the agency's estimate of the burden of the proposed collection of information, including the validity of the methodology and assumptions used;

—Evaluate whether and if so how the quality, utility, and clarity of the information to be collected can be enhanced; and

—Minimize the burden of the collection of information on those who are to respond, including through the use of appropriate automated, electronic, mechanical, or other technological collection techniques or other forms of information technology, e.g., permitting electronic submission of responses.

Abstract: Authorized by 34 U.S.C. 12351, the Transitional Housing Assistance Grants for Victims of Domestic Violence, Dating Violence, Sexual Assault and Stalking Program (Transitional Housing Program) supports programs that provide 6-24 months of transitional housing with support services for victims who are homeless or in need of transitional housing or other housing assistance, as a result of a situation of domestic violence, dating violence, sexual assault or stalking; and for whom emergency shelter services or other crisis intervention services are unavailable or insufficient.

Overview of This Information Collection

1. Type of Information Collection: Extension of a previously approved collection.

2. The Title of the Form/Collection: Semi-Annual Progress Report for Grantees of the Transitional Housing Assistance Grant Program.

3. The agency form number, if any, and the applicable component of the Department sponsoring the collection: 1122-0016.

Affected public who will be asked or required to respond, as well as the obligation to respond: The affected public includes the approximately 120 grantees of the Transitional Housing Program whose eligibility is determined by statute. This discretionary grant program provides transitional housing, short-term housing assistance, and related support services for individuals who are homeless, or in need of transitional housing or other housing assistance, as a result of fleeing a situation of domestic violence, dating violence, sexual assault, or stalking, and for whom emergency shelter services or other crisis intervention services are unavailable or insufficient. Eligible applicants are States, units of local government, Indian tribal governments, and other organizations, including domestic violence and sexual assault victim services providers, domestic violence or sexual assault coalitions, other nonprofit, nongovernmental organizations, or community-based and culturally specific organizations, that have a documented history of effective work concerning domestic violence, dating violence, sexual assault, or stalking. The obligation to respond is required to obtain/retain a benefit.

4. An estimate of the total number of respondents and the amount of time estimated for an average respondent to respond: It is estimated that it will take the approximately 120 respondents (Transitional Housing Program grantees) approximately one hour to complete a semi-annual progress report. The semi-annual progress report is divided into sections that pertain to the different types of activities in which grantees may engage. A Transitional Housing Program grantee will only be required to complete the sections of the form that pertain to its own specific activities.

5. An estimate of the total annual burden (in hours) associated with the collection: It is estimated that it will take the approximately 120 respondents (Transitional Housing Program grantees) approximately one hour to complete a semi-annual progress report. The semi-annual progress report is divided into sections that pertain to the different types of activities in which grantees may engage. A Transitional Housing Program grantee will only be required to complete the sections of the form that pertain to its own specific activities.

6. The total annual hour burden to complete the data collection forms is 240 hours, that is 120 grantees completing a form twice a year with an estimated completion time for the form being one hour.

7. An estimate of the total annual cost burden associated with the collection, if applicable: The annualized costs to the Federal Government resulting from the OVW staff review of the progress reports submitted by grantees are estimated to be $13,440.

8.

Total Burden Hours
Activity | Number of respondents | Frequency | Total annual responses | Time per response (hours) | Total annual burden (hours)
Progress Report Form | 120 | 2/semiannually | 240 | 1 | 240
Unduplicated Totals | 120 |  | 240 |  | 240

If additional information is required contact: Darwin Arceo, Department Clearance Officer, United States Department of Justice, Justice Management Division, Policy and Planning Staff, Two Constitution Square, 145 N Street NE, 4W-218, Washington, DC.

Dated: June 24, 2024.
Darwin Arceo,
Department Clearance Officer for PRA, U.S. Department of Justice.

[FR Doc. 2024-14189 Filed 6-27-24; 8:45 am]

BILLING CODE 4410-FX-P